DEPARTMENT OF COMMERCE

Foreign-Trade Zones Board

[Docket T-5-2011]

Foreign-Trade Zone 277, Temporary/Interim Manufacturing Authority, Sub-Zero, Inc., (Refrigerators), Notice of Approval

On October 3, 2011, the Executive Secretary of the Foreign-Trade Zones (FTZ) Board filed an application submitted by the Greater Maricopa Foreign Trade Zone, Inc., grantee of FTZ 277, requesting temporary/interim manufacturing (T/IM) authority, on behalf of Sub-Zero, Inc., to manufacture refrigerators under FTZ procedures within FTZ 277—Site 3, in Goodyear, Arizona.

The application was processed in accordance with T/IM procedures, as authorized by FTZ Board Orders 1347 (69 FR 52857, 8/30/04) and 1480 (71 FR 55422, 9/22/06), including notice in the Federal Register inviting public comment (76 FR 62760, 10/14/2011). The FTZ staff examiner reviewed the application and determined that it meets the criteria for approval under T/IM procedures. Pursuant to the authority delegated to the FTZ Board Executive Secretary in the above-referenced Board Orders, the application is approved, effective this date, until November 17, 2013, subject to the FTZ Act and the Board's regulations, including Section 400.28.

Dated: November 17, 2011.
Andrew McGilvray,
Executive Secretary.

[FR Doc. 2011-30316 Filed 11-23-11; 8:45 am]

BILLING CODE P